NUCLEAR REGULATORY COMMISSION

[Docket No. 030-35596]

Notice of Finding of No Significant Impact and Availability of Environmental Assessment for License Amendment of Materials License No. 37-30605-01, [Protarga, Inc., Exton, PA]

I. Introduction

The U.S. Nuclear Regulatory Commission (NRC) is considering the issuance of a license amendment to Protarga, Inc., for Materials License No. 37-30605-01, to authorize release of its facility in Exton, Pennsylvania, for unrestricted use and has prepared an Environmental Assessment (EA) in support of this action in accordance with the requirements of 10 CFR part 51. Based on the EA, the NRC has concluded that a Finding of No Significant Impact (FONSI) is appropriate.

II. EA Summary

The purpose of the proposed action is to allow for the release of the licensee's Exton, Pennsylvania facility for unrestricted use. Protarga, Inc., has been authorized by NRC from December 20, 2000, to use radioactive materials for research and development purposes at the site. On April 3, 2003, Protarga, Inc., requested that NRC release the facility for unrestricted use. Protarga, Inc., has conducted surveys of the facility and determined that the facility meets the license termination criteria in subpart E of 10 CFR part 20.

III. Finding of No Significant Impact

The NRC staff has evaluated Protarga, Inc.”s request and the results of the surveys and has concluded that the completed action complies with the criteria in Subpart E 10 CFR Part 20. The staff has prepared the EA (summarized above) in support of the proposed license amendment to terminate the license and release the facility for unrestricted use. On the basis of the EA, the NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accession Nos. ML031700667 and ML031080087. These documents are also available for inspection and copying for a fee at the Region I Office, 475 Allendale Road, King of Prussia, PA 19406. Any questions with respect to this action should be referred to Sattar Lodhi, Nuclear Materials Safety Branch 2, Division of Nuclear Materials Safety, Region I, 475 Allendale Road, King of Prussia, Pennsylvania, 19406, telephone (610) 337-5364, fax (610) 337-5269.

Dated at King of Prussia, Pennsylvania this 19th day of June 2003.
For the Nuclear Regulatory Commission.
John D. Kinneman,
Chief, Nuclear Materials Safety Branch 2, Division of Nuclear Materials Safety, Region I.

[FR Doc. 03-16414 Filed 6-27-03; 8:45 am]

BILLING CODE 7590-01-P